DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Economic Survey of Gulf of Mexico (GOM) Captains and Crew Associated With the GOM Grouper-Tilefish Individual Fishing Quota Program.

OMB Control Number: 0648-xxxx.

Form Number(s): None.

Type of Request: Regular (request for a new information collection).

Number of Respondents: 210.

Average Hours per Response: 30 minutes.

Burden Hours: 105.

Needs and Uses: This request is for a new information collection.

The National Marine Fisheries Service (NMFS) proposes to collect economic and attitudinal data from hired captains and crew regarding the performance of the GOM Grouper-Tilefish IFQ Program five years after its implementation. These data will be used to estimate the effects of the GT-IFQ Program on these stakeholders for the five-year program review mandated by the Magnuson-Stevens Fishery Conservation and Management Act (U.S.C. 1801 et seq). The population targeted by the economic survey is hired captains and crew that participate in the GOM Grouper-Tilefish fishery. In addition, the information will be used to strengthen and improve fishery management decision-making, and satisfy legal mandates under Executive Order 12866, the Regulatory Flexibility Act, the Endangered Species Act, the National Environmental Policy Act and other pertinent statues.

Affected Public: Business or other for-profit organizations; individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 18, 2016.
Sarah Brabson,
NOAA PRA Clearance Officer.

[FR Doc. 2016-09344 Filed 4-21-16; 8:45 am]

BILLING CODE 3510-22-P